DEPARTMENT OF HOMELAND SECURITY

Federal Emergency Management Agency

[Docket ID: FEMA-2020-0040; OMB No. 1660-0150]

Agency Information Collection Activities: Proposed Collection; Comment Request; Rated Orders, Adjustments, Exceptions, or Appeals Under the Emergency Management Priorities and Allocations System (EMPAS)

AGENCY: Federal Emergency Management Agency, DHS.

ACTION: 60-Day notice and request for comments.

SUMMARY: The Federal Emergency Management Agency, as part of its continuing effort to reduce paperwork and respondent burden, invites the general public to take this opportunity to comment on a revision of a currently approved information collection. In accordance with the Paperwork Reduction Act of 1995, this notice seeks comments concerning information necessary to support the President's priorities and allocations authority under the DPA implemented by the Emergency Management Priorities and Allocations System (EMPAS) regulation, which was added by FEMA's May 13, 2020, Emergency Management Priorities and Allocations System Interim Final Rule.

DATES: Comments must be submitted on or before March 5, 2021.

ADDRESSES: Submit comments at www.regulations.gov under Docket ID FEMA-2020-0040. Follow the instructions for submitting comments.

All submissions received must include the agency name and Docket ID, and will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Marc Geier, Office of Policy and Program Analysis, Federal Emergency Management Agency, 500 C Street SW, Washington, DC 20472, 202.924.0196 or FEMA-DPA@fema.dhs.gov. You may contact the Information Management Division for copies of the proposed collection of information at email address: FEMA-Information-Collections-Management@fema.dhs.gov.

SUPPLEMENTARY INFORMATION: This information is necessary to support the President's priorities and allocations authority under the DPA implemented by the Emergency Management Priorities and Allocations System (EMPAS) regulation (44 CFR part 333), which was added by FEMA's May 13, 2020, Emergency Management Priorities and Allocations System Interim Final Rule (RIN 1660-AB04). The purpose of this authority is to ensure the timely delivery of products, materials, and services to meet current national defense requirements. The definition of “national defense” in Section 702(14) of the DPA provides that this term includes “homeland security,” “emergency preparedness activities” conducted pursuant to Section 602 of the Robert T. Stafford Disaster Relief and Emergency Assistance Act (Stafford Act) (42 U.S.C. 5195a), and “critical infrastructure protection and restoration.”

Collection of Information

Title: Rated Orders, Adjustments, Exceptions, or Appeals Under the Emergency Management Priorities and Allocations System (EMPAS).

Type of Information Collection: Revision of a currently approved information collection.

OMB Number: 1660-0150.

FEMA Forms: No forms.

Abstract: To help ensure the timely delivery of goods and services in support of approved emergency management programs, section 333.13 of the EMPAS regulation requires suppliers to accept or reject priority rated orders for these goods and services within established time periods (10 working days for a “DX” rated order and 15 working days for a “DO” rated order). Rated orders may be placed directly by the Federal Government on a contractor or supplier, or they may “flow down” from a contractor to subsequent subcontractors or suppliers. Additionally, FEMA may facilitate sales to third parties. Section 333.13 also requires that certain emergency preparedness rated orders must be accepted or rejected within shorter time periods as specified in section 333.12(b). Section 333.13(d)(3) of the EMPAS regulation requires that, if after acceptance of a rated order the supplier discovers that shipment or performance against the order will be delayed, the supplier must notify the customer immediately in written electronic format, giving the reasons for the delay and advising the customer of a new shipment or performance date. This collection of information involves order communications between a Federal Government prime contractor and its subcontractors, unless FEMA is facilitating a sale to a third party. In those situations, FEMA would collect information on the customer as part of the sale facilitation.

Finally, under section 333.70 each request for adjustment or exception must be in writing and contain a complete statement of all the facts and circumstances related to 44 CFR part 333 or official action from which adjustment is sought and a full and precise statement of the reasons why relief should be provided. Under section 333.71, any person who has had a request for adjustment or exception denied by FEMA under section 333.70 may appeal to the Administrator. Each appeal must be in writing and contain a complete statement of all the facts and circumstances related to the action appealed from a full and precise statement of the reasons the decision should be modified or reversed.

Affected Public: For Profit Business; Private Non-Profit; State, local or Tribal government.

Estimated Number of Respondents: 26.

Estimated Number of Responses: 26.

Estimated Total Annual Burden Hours: 8.5.

Estimated Total Annual Respondent Cost: $533.

Estimated Respondents' Operation and Maintenance Costs: None.

Estimated Respondents' Capital and Start-Up Costs: None.

Estimated Total Annual Cost to the Federal Government: $188.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Acting Records Management Branch Chief, Office of the Chief Administrative Officer, Mission Support, Federal Emergency Management Agency, Department of Homeland Security.

[FR Doc. 2020-29029 Filed 12-31-20; 8:45 am]

BILLING CODE 9111-19-P